COMMODITY FUTURES TRADING COMMISSION

Agency Information Collection Activities: Notice and Intent to Renew Collection 3038-0015, Copies of Crop and Market Information Reports

AGENCY: Commodity Futures Trading Commission.

ACTION: Notice.

SUMMARY: The Commodity Futures Trading Commission (CFTC) is announcing an opportunity for public comment on the proposed collection of certain information by the agency. Under the Paperwork Reduction Act of 1995 (PRA), 44 U.S.C. 3501 et seq., Federal agencies are required to publish notice in the Federal Register concerning each proposed collection of information, including each proposed extension of an existing collection of information, and to allow 60 days for public comment in response to the notice. This notice solicits comments on large trader report.

DATES: Comments must be submitted on or before July 22, 2002.

ADDRESSES: Comments may be mailed to Judith E. Payne, Division of Economic Analysis, U.S. Commodity Futures Trading Commission, 1155 21st Street, NW., Washington, DC 20581.

FOR FURTHER INFORMATION CONTACT: Judith E. Payne, (202) 418-5268; FAX: (202) 418-5527; email: jpayne@cftc.gov

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Copies of Crop and Market Information Reports, OMB control number 3038-0015—Extension

The information collected pursuant to this rule, 17 CFR part 140, is in the public interest and is necessary for market surveillance.

The Commission estimates the burden of this collection of information as follows:

Estimated annual reporting burden: 17 CFR section | Estimated annual reporting burden: Annual number of respondents | Estimated annual reporting burden: Total annual responses | Estimated annual reporting burden: Hours per response | Estimated annual reporting burden: Total hours
140 | 30 | 30 | 0.16 | 5

There are no capital costs or operating and maintenance costs associated with this collection.

Dated: May 16, 2002.
Jean A. Webb,
Secretary of the Commission.

[FR Doc. 02-12813 Filed 5-21-02; 8:45 am]

BILLING CODE 6351-01-M